DEPARTMENT OF COMMERCE

International Trade Administration

[C-570-037]

Certain Biaxial Integral Geogrid Products From the People's Republic of China: Amended Preliminary Results of Countervailing Duty Investigation

AGENCY: Enforcement and Compliance, International Trade Administration, Department of Commerce.

SUMMARY: On June 24, 2016, the Department of Commerce (“Department”) published in the Federal Register the Preliminary Determination of the countervailing duty (“CVD”) investigation on certain biaxial integral geogrid products (“geogrids”) from the People's Republic of China (“PRC”). The Department is amending the Preliminary Determination of the investigation to correct three ministerial errors.

DATES: Effective June 24, 2016.

FOR FURTHER INFORMATION CONTACT: Bob Palmer or Ryan Mullen, AD/CVD Operations, Office V, Enforcement and Compliance, International Trade Administration, Department of Commerce, 14th Street and Constitution Avenue NW., Washington, DC 20230; telephone: (202) 482-9068 or (202) 482-5260, respectively.

SUPPLEMENTARY INFORMATION: On June 24, 2016, the Department published in the Federal Register the Preliminary Determination of the CVD investigation of geogrids from the PRC.¹ On June 24, 2016, and June 27, 2016, respectively, Taian Modern Plastic Co., Ltd. (“Taian Modern”) and BOSTD Geosynthetics Qingdao Ltd. (“BOSTD Qingdao”) alleged that the Department made significant ministerial errors in the Preliminary Determination.²

¹ See Countervailing Duty Investigation of Certain Biaxial Integral Geogrid Products From the People's Republic of China: Preliminary Determination and Alignment of Final Determination With Final Antidumping Determination, 81 FR 41292 (June 24, 2016) (“Preliminary Determination”).

² On June 30, 2016 the Department received comments submitted by Tensar Corporation in reply to the ministerial allegations of Taian Modern and BOSTD Qingdao. However, in accordance with 19 CFR 351.224(c)(3), these reply comments were rejected from the record. See Letter from Catherine Bertrand, Program Manager, Office V, “Certain Biaxial Integral Geogrids Products from the People's Republic of China: Tensar Corporation's Ministerial Reply Comments” (July 5, 2016).

Significant Ministerial Error

A ministerial error, as defined in section 751(h) of the Tariff Act of 1930, as amended (“the Act”), includes “errors in addition, subtraction, or other arithmetic function, clerical errors resulting from inaccurate copying, duplication, or the like, and any other type of unintentional error which the administering authority considers ministerial.” ³ With respect to preliminary determinations, 19 CFR 351.224(e) provides that the Department “will analyze any comments received and, if appropriate, correct any significant ministerial error by amending the preliminary determination . . .” A significant ministerial error is defined as an error, the correction of which, singly or in combination with other errors, would result in: (1) A change of at least five absolute percentage points in, but not less than 25 percent of, the countervailable subsidy rate calculated in the original (erroneous) preliminary determination; or (2) a difference between a countervailable subsidy rate of zero (or de minimis) and a countervailable subsidy rate of greater than de minimis or vice versa.⁴ As explained further in the Ministerial Error Memorandum issued concurrently with this Notice,⁵ and pursuant to 19 CFR 351.224(e) and (g), the Department is amending the Preliminary Determination to reflect the correction of three ministerial errors made in the calculation of the subsidy rates for Taian Modern and BOSTD Qingdao.

³ See also 19 CFR 351.224(f).

⁴ See 19 CFR 351.224(g) (1), (2).

⁵ See Memorandum to Paul Piquado, Assistant Secretary for Enforcement and Compliance, from James Doyle, Director, Office V, through Christian Marsh, Deputy Assistant Secretary for Antidumping and Countervailing Duty Operations, entitled, “Countervailing Duty Investigation of Certain Biaxial Integral Geogrid Products from the People's Republic of China: Allegation of Significant Ministerial Errors in the Preliminary Determination,” dated concurrently with this notice (“Ministerial Error Memorandum”). This memorandum is on file electronically via Enforcement and Compliance's Antidumping and Countervailing Duty Centralized Electronic Service System (“ACCESS”). ACCESS is available to registered users at http://access.trade.gov, and is available to all parties in the Central Records Unit, room B8024 of the main Department of Commerce building.

Ministerial Error Allegations

Taian Modern alleges that, although the Department stated in the Preliminary Determination that it was using total sales as the denominator in calculating the subsidy rate because the programs were considered domestic subsidies, the Department actually used only Taian Modern's sales of geogrids as the denominator in its calculations.

After comparing the ministerial error allegations against record evidence, in accordance with section 751(h) of the Act, we agree that we inadvertently used only Taian Modern's sales of geogrids in our calculation instead of total sales. This resulted in a significant error within the meaning of section 735(e) of the Act and 19 CFR 351.224(g). We have corrected this error in this notice.

BOSTD Qingdao alleges that in the Preliminary Determination, the Department stated that it would add to the purchase price for each individual domestic purchase the reported delivery charge and VAT paid to obtain a total amount paid. However, the Department unintentionally included BOSTD Qingdao's purchases of imported (e.g., non-Chinese origin) polypropylene in the less-than-adequate-remuneration (“LTAR”) calculation.

Next, with respect to the electricity for LTAR calculation, BOSTD Qingdao alleges that the Department made an error in addition. In the Department's calculation worksheet, the benefit totals from each of the various electricity categories was hardcode rather than a sum formula. The actual sum of BOSTD Qingdao's electricity benefit is considerably less.

After comparing the ministerial error allegations against record evidence, in accordance with section 751(h) of the Act, we agree with BOSTD Qingdao that we inadvertently included BOSTD Qingdao's purchases of imported polypropylene in the LTAR calculation. We also agree that we miscalculated the benefit total of the various electricity categories. These errors resulted in a significant error within the meaning of section 735(e) of the Act and 19 CFR 351.224(g). We have corrected these errors in this notice.

Amended Preliminary Determination

We are amending the preliminary countervailing duty rates for Taian Modern and BOSTD Qingdao pursuant to 19 CFR 351.224(e). In addition, the preliminary “All-Others” Rate was based on the simple average of the subsidy rates calculated for Taian Modern and BOSTD Qingdao. Thus, we are also amending the “All-Others” rate to account for the change in Taian Modern's and BOSTD Qingdao's subsidy rate. Specifically, we are calculating the simple average of the corrected subsidy rate for Taian Modern and BOSTD Qingdao. Further, correcting Taian Modern's “Provision of Polypropylene for LTAR” error and BOSTD Qingdao's “Provision of Electricity for LTAR” calculation leads to a change in the adverse facts available rate.⁶ The revised subsidy rates are as follows:

⁶ See Ministerial Error Memorandum for the revised adverse facts available rate.

Company | Subsidy rate
BOSTD Geosynthetics Qingdao Ltd. and Beijing Orient Science & Technology Development Co., Ltd | 5.19
Taian Modern Plastic Co., Ltd | 20.79
All-Others | 12.99
Chengdu Tian Road Engineering Materials Co., Ltd.* | 119.13
Chongqing Jiudi Reinforced Soil Engineering Co., Ltd.* | 119.13
CNBM International Corporation * | 119.13
Dezhou Yaohua Geosynthetics Ltd.* | 119.13
Dezhou Zhengyu Geosynthetics Ltd.* | 119.13
Hongye Engineering Materials Co., Ltd.* | 119.13
Hubei Nete Geosynthetics Ltd.* | 119.13
Jiangsu Dingtai Engineering Material Co., Ltd.* | 119.13
Jiangsu Jiuding New Material Ltd.* | 119.13
Lewu New Material Ltd.* | 119.13
Nanjing Jinlu Geosynthetics Ltd.* | 119.13
Nanjing Kunchi Composite Material Ltd.* | 119.13
Nanyang Jieda Geosynthetics Co., Ltd.* | 119.13
Qingdao Hongda Plastics Corp.* | 119.13
Shandong Dexuda Geosynthetics Ltd.* | 119.13
Shandong Haoyang New Engineering Materials Co., Ltd.* | 119.13
Shandong Tongfa Glass Fiber Ltd.* | 119.13
Shandong Xinyu Geosynthetics Ltd.* | 119.13
Tai'an Haohua Plastics Co., Ltd.* | 119.13
Taian Hengbang Engineering Material Co., Ltd.* | 119.13
Taian Naite Geosynthetics Ltd.* | 119.13
Taian Road Engineering Materials Co., Ltd.* | 119.13
Tenax * | 119.13
Hengshui Zhongtiejian Group Co.* | 119.13
Qingdao Sunrise Dageng Import and Export Co., Ltd.* | 119.13
* Non-cooperative company to which an adverse facts available rate is being applied. See Countervailing Duty Investigation of Certain Biaxial Integral Geogrid Products From the People's Republic of China: Preliminary Determination and Alignment of Final Determination With Final Antidumping Determination, 81 FR 41292 (June 24, 2016) and accompanying Preliminary Decision Memo at “Use of Facts Otherwise Available and Adverse Inferences.”

These amended preliminary results are published in accordance with sections 751(h) and 777(i)(1) of the Act.

Dated: July 19, 2016.
Paul Piquado,
Assistant Secretary for Enforcement and Compliance.

[FR Doc. 2016-17565 Filed 7-22-16; 8:45 am]

BILLING CODE 3510-DS-P